DEPARTMENT OF EDUCATION

[Docket No.: ED-2021-SCC-0071]

Agency Information Collection Activities; Submission to the Office of Management and Budget for Review and Approval; Comment Request; Rural, Insular, Native Achievement Programs (RINAP) Progress Update—Outlying Areas and the Republic of Palau

AGENCY: Office of Elementary and Secondary Education (OESE), Department of Education (ED).

ACTION: Notice.

SUMMARY: In accordance with the Paperwork Reduction Act of 1995, ED is proposing an extension without change of a currently approved collection.

DATES: Interested persons are invited to submit comments on or before November 5, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Joanne Osborne, 202-401-1265.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Rural, Insular, Native Achievement Programs (RINAP) Progress Update—Outlying Areas and the Republic of Palau.

OMB Control Number: 1810-0757.

Type of Review: An extension without change of a currently approved collection.

Respondents/Affected Public: State, Local, and Tribal Governments.

Total Estimated Number of Annual Responses: 52.

Total Estimated Number of Annual Burden Hours: 52.

Abstract: The Rural, Insular, and Native Achievement Program (RINAP), within the Office of Elementary and Secondary Education (OESE), part of the U.S. Department of Education (ED), seeks an extension without change from OMB for its progress update protocol for the Outlying Areas and the Republic of Palau. RINAP administers Section 1121 of Title I, Part A of the ESEA; Title II of Public Law 108-118 (Supplemental Education Grant (SEG)), CARES Act—Outlying Areas; Title III of CRRSA—Outlying Areas, Sections 2005 and 11006(2-3) of the ARP; Title V, Part B of the ESEA (Rural Education Achievement Program), Title VI, Part B of the ESEA (Native Hawaiian Education); and Title VI, Part C of the ESEA (Alaska Native Education). Periodic progress updates, phone, virtual, or in-person conversations during a fiscal year with authorized representatives and project directors help ensure grantees are making progress toward meeting program goals and objectives. The information shared with RINAP helps inform the selection and delivery of technical assistance to grantees and aligns structures, processes, and routines so RINAP can monitor the connection between grant administration and intended outcomes.

Dated: October 1, 2021.
Kate Mullan,
PRA Coordinator, Strategic Collections and Clearance Governance and Strategy Division, Office of Chief Data Officer, Office of Planning, Evaluation and Policy Development.

[FR Doc. 2021-21803 Filed 10-5-21; 8:45 am]

BILLING CODE 4000-01-P